OVERSEAS PRIVATE INVESTMENT CORPORATION

January 30, 2003, Board of Directors Meeting

Time and Date: Thursday, January 30, 2003, 1:30 p.m. (open portion); 1:45 p.m. (closed portion).

Place: Offices of the Corporation, Twelfth Floor Board Room, 1100 New York Avenue, NW., Washington, DC.

Status: Meeting open to the public from 1:30 p.m. to 1:45 p.m. Closed portion will commence at 1:45 p.m. (approx.).

Matters To Be Considered: 1. President's report.

2. Testimonials:

1. Lottie L. Shackelford.

2. Melvin E. Clark, Jr.

3. John J. Pikarski, Jr.

Further Matters To Be Considered: (Closed to the public, 1:45 p.m.)

1. Finance project in Pakistan;

2. Finance project in South Africa;

3. Finance project in Bolivia;

4. Finance project in Sub-Saharan Africa;

5. Insurance project in Kazakhstan;

6. Pending major projects;

7. Reports.

Contact Person for Information: Information on the meeting may be obtained from Connie M. Downs at (202) 336-8438.

Dated: January 17, 2003.
Connie M. Downs,
Corporate Secretary, Overseas Private Investment Corporation.

[FR Doc. 03-1565 Filed 1-17-03; 4:18 pm]

BILLING CODE 3210-01-M